COMMISSION ON CIVIL RIGHTS

Agenda and Notice of Public Meeting of the Indiana Advisory Committee

Notice is hereby given, pursuant to the provisions of the rules and regulations of the U.S. Commission on Civil Rights, that a meeting of the Indiana Advisory Committee to the Commission will convene at 9 a.m. and adjourn at 1 p.m. on Thursday, April 26, 2001, at the Embassy Suites Hotel, 110 W. Washington, Indianapolis, Indiana 46204. The purpose of the meeting is to hold a press conference to release the Committee's report, The Decision to Prosecute Homicides and Drug Offenses in Marion County, Indiana. Also, the Committee will discuss current events and plan future activities.

Persons desiring additional information, or planning a presentation to the Committee, should Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, April 4, 2001.
Edward A. Hailes,
General Counsel.

[FR Doc. 01-8697 Filed 4-9-01; 8:45 am]

BILLING CODE 6335-01-P